DEPARTMENT OF AGRICULTURE

Natural Resources Conservation Service

Notice of Intent To Prepare an Environmental Impact Statement for the Gould Wash Flood Protection Project, Washington County, Utah

AGENCY: Natural Resources Conservation Service, USDA.

ACTION: Notice of Intent (NOI) to prepare an Environmental Impact Statement (EIS).

SUMMARY: The Natural Resources Conservation Service (NRCS) Utah State Office announces its intent to prepare an EIS for the Gould Wash Flood Protection Project within the Warner Draw Watershed in Washington County, Utah. NRCS is requesting comments to identify significant issues and alternatives to be addressed in the EIS from all interested all interested individuals. The EIS process will examine existing flood control measures and evaluate additional (new) alternatives identified during scoping.

DATES: We will consider comments that we receive by July 6, 2021. Comments received after this date will be considered to the extent possible.

ADDRESSES: We invite you to submit formal scoping comments. Comments may be submitted by any of the following methods:

• Email: gouldwash@mcmjac.com;

• Mail or hand delivery to: Ms. Bobbi Preite, McMillen Jacobs Associates, 1471 Shoreline Dr., Suite 100, Boise, ID 83702; or

• Telephone: (208) 985-1542.

To be included on the EIS mailing list, please provide your contact information through any of the comment options above. Please note that any respondent's entire scoping comment, including their personal contact information, may be made publicly available at any time during the EIS process.

FOR FURTHER INFORMATION CONTACT: Mr. Norm Evenstad; telephone: (801) 524-4569; or email at norm.evenstad@usda.gov.

SUPPLEMENTARY INFORMATION

Purpose and Need

The primary purpose for watershed planning and preparation of an EIS is flood prevention and flood damage reduction in Hurricane City, Utah. NRCS will provide technical assistance and financial support for the EIS process and the implementation of the selected alternative. Watershed planning was authorized under Public Law 83-566, the Watershed Protection and Flood Prevention Act of 1954, as amended, and Public Law 78-534, the Flood Control Act of 1944.

This action is needed because 50 percent of all the properties or portions of properties that adjoin Gould Wash through the town of Hurricane, Utah are flooded in any given year. Gould Wash has an uncontrolled drainage area of approximately 64.5 square miles. A total of 650 residences, 99 commercial businesses or offices, and 82 roads currently would be inundated during a 100-year flood. Flood control of Gould Wash is critical to prevent future flood damage and loss of property and life.

Initial agency scoping of this federally assisted action indicates that proposed alternatives may have significant local and regional impacts to the environment. Norm Evenstad, State Conservationist, has determined that the preparation of an EIS is needed. This EIS will be prepared as required by section 102(2)(C) of the National Environmental Policy Act of 1969 (NEPA); the Council on Environmental Quality Regulations (40 CFR parts 1500-1508); and NRCS regulations that implement NEPA in 7 CFR part 650.

Consultation with Tribal Nations and interested parties will be conducted as required by the National Historic Preservation Act of 1966 (as amended through 1992) (16 U.S.C. 470f).

Description

In efforts to control Gould Wash as it traverses through Hurricane City, various steps have been taken including hardening the stream banks to prevent erosion and straightening the channel to avoid private property and buildings. During small events these measures suffice in protecting property, however, during a 100-year flood event the channel is overtopped and flooding is widespread throughout Hurricane City. Watershed planning under the EIS will evaluate the effectiveness, environmental effects, and the socio-economic impacts of the original channelization efforts. The results of these analyses will provide the context for determining the environmental, economic, and social effects of considered alternatives for additional (new) flood prevention or flood damage reduction measures for the Gould Wash Flood Protection Project within the Warner Draw Watershed in Washington County, Utah. The focused planning area is 64.5 square miles.

Scoping Process

NRCS invited all interested individuals and organizations, public agencies, and Tribes to comment on the scope of the EIS, including the project's purpose and need, alternatives proposed to date, new alternatives that should be considered, specific areas of study that might be needed, and evaluation methods to be used. One scoping meeting to present the project and develop the scope of the EIS was held on Tuesday, February 4, 2020, in the Bryce Canyon Room at the Hurricane Community Center in Hurricane, Utah. A presentation was conducted followed by a group question-and-answer period. Project team members were available for individual questions and discussions.

Alternatives

The objective of the EIS is to formulate and evaluate alternatives for flood prevention or flood damage reduction in the Gould Wash channel through the Town of Hurricane City. Alternatives to be evaluated include the development of dam(s) in the Gould Wash headwaters and modifications of the channel through Hurricane City. The actions will require upland watershed treatments to reduce runoff, major rehabilitation of the channel through town and land use changes in the floodplain.

Potential impacts include wetland and flood plain alteration. Permitting with the U.S. Army Corps of Engineers regarding potential wetland impacts will be pursued prior to final design and construction. A draft EIS will be prepared and circulated for review and comment by agencies and the public per 40 CFR 1503.1, 1502.20, 1506.11, and 1502.17, and 7 CFR 650.13. NRCS invites agencies and individuals who have special expertise, legal jurisdiction, or interest in the Gould Wash Watershed to participate and identify potential alternatives.

Federal Assistance Programs

The title and number of the Federal assistance program in the Catalog of Federal Domestic Assistance to which this NOFA applies: 10.904 Watershed Protection and Flood Prevention and is subject to the provisions of Executive Order 12372, which requires intergovernmental consultation with State and local officials.

Emily Fife,
State Conservationist, Utah, Natural Resources Conservation Service.

[FR Doc. 2021-11646 Filed 6-2-21; 8:45 am]

BILLING CODE 3410-16-P